FEDERAL RETIREMENT THRIFT INVESTMENT BOARD

Sunshine Act; Notice of Meeting

Time and Date: 9 a.m. (EST). February 20, 2007.

Place: 4th Floor Conference Room, 1250 H Street, NW., Washington, DC.

Status: Parts will be open to the public and parts closed to the public.

Matters To Be Considered:

Parts Open to the Public

1. Approval of the minutes of the January 16, 2007 Board member meeting

2. Thrift Savings Plan activity report by the Executive Director

3. Dept. of Labor Reports

a. Clintwood Call Center

b. Pittsburgh Backup/Recovery Site

4. Dept. of Labor/KPMG Annual Audit Report

5. Annual Participant Statements

6. Communications and Operations Report

Parts Closed to the Public

7. Personnel

Contact Person for More Information: Thomas J. Trabucco, Director, Office of External Affairs, (202) 942-1640.

Dated: February 9, 2007.
Thomas K. Emswiler,
Secretary to the Board, Federal Retirement Thrift Investment Board.

[FR Doc. 07-671 Filed 2-9-07; 11:26 am]

BILLING CODE 6760-01-P